DEPARTMENT OF AGRICULTURE

Cooperative State Research, Education, and Extension Service

Amendment of the Notice of the Availability of the Fiscal Year 2001 Solicitation for Applications for the National Research Initiative Competitive Grants Program

AGENCY: Cooperative State Research, Education, and Extension Service, USDA.

ACTION: Notice of amendment of the notice of the availability of the solicitation for applications for the fiscal year 2001 National Research Initiative Competitive Grants Program.

SUMMARY: This notice amends the announcement of the availability of the fiscal year (FY) 2001 solicitation for applications, which is titled the “NRI Program Description,” for the National Research Initiative (NRI) Competitive Grants Program published at 65 FR 54989, September 12, 2000.

In accordance with the Agriculture, Rural Development, Food and Drug Administration, and Related Agencies Appropriations Act for FY 2001, which provides less funding for the NRI in FY 2001 than was anticipated at the time the availability of the FY 2001 solicitation for applications was announced, this amendment revises the estimated amounts of funds available in the following research categories (PREVIOUSLY ANTICIPATED FY 2001 funding (PREV) and CURRENTLY ANTICIPATED FY 2001 (CUR) funding, rounded to the $0.1M, follows in parentheses):

• Natural Resources and the Environment (PREV:$19.1M, CUR:$16.4M)

• Nutrition, Food Quality, and Health (PREV:$14.9M, CUR:$16.8M)

• Plant Systems (PREV:$38.2M, CUR:$32.4M)

• Animal Systems (PREV:$27.0M, CUR:$23.0M)

• Markets, Trade, and Policy (PREV:$4.3M, CUR:$3.7M)

• New Products and Processes (PREV:$7.6M, CUR:$6.5M)

As a result the following Program Areas will not be funded, and proposals for these Program Areas should not be submitted:

• Ecosystem Science (Program Code 23.0)

• Plant Genome (Program Code 52.1)

• Animal Genome: Basic Reagents and Tools (Program Code 43.1)

Although the Plant Genome program (52.1) will not be offered this fiscal year, the Plant Genetic Mechanisms program (52.2) will expand its research areas of support to now include functional genomics, quantitative trait loci analysis, comparative mapping, and all renewal applications that could have been submitted to the Plant Genome program.

Additionally, proposals that address the President's Food Safety Initiative (www.foodsafety.gov/~fsg/fsiback.html) are encouraged for all the relevant NRI Program Areas.

A fair distribution of resources between research on animal systems and plants is being sought through increased opportunity for animal-related research in the food safety area, and opportunity in other programs relevant to animal systems such as agricultural systems, markets and trade, food characterization/process/product research, water resources, and pest biology.

DATES: This amendment does not alter the original deadlines for receipt of proposals set forth previously in the Notice of the Availability of the Solicitation for Applications published on September 12, 2000 (65 FR 54989).

FOR FURTHER INFORMATION CONTACT: USDA/CSREES/NRI, Stop 2241, 1400 Independence Ave., SW, Washington, D.C. 20250-2241. Phone: (202) 401-5022. E-mail: nricgp@reeusda.gov.

SUPPLEMENTARY INFORMATION:

NRI Deadline Dates

The following fixed dates have been established for proposal submission deadlines within the NRI. To be considered for funding in any fiscal year, proposals must be transmitted by the date listed below (as indicated by postmark or date on courier bill of lading). When the deadline date falls on a weekend or Federal holiday, transmission must be made by the following business day.

Programs offered in any fiscal year depend on availability of funds and deadlines may be delayed due to unforeseen circumstances. Consult the pertinent NRI notice in the Federal Register, the NRI Program Description, or the NRI home page (www.reeusda.gov/nri) for up-to-date information.

Postmarked dates | Program codes | Program areas
November 15 | 22.1 | Plant Responses to the Environment
| 25.0 | Soils and Soil Biology
| 26.0 | Watershed Processes and Water Resources
| 31.0 | Improving Human Nutrition for Optimal Health
| 51.9 | Biology of Weedy and Invasive Plants
| 80.1 | Research Career Enhancement Awards
| 80.2 | Equipment Grants
| 80.3 | Seed Grants
| 100.0 | Agricultural Systems
December 15 | 52.2 | Plant Genome Mechanisms
| 53.0 | Plant Growth and Development
| 61.0 | Markets and Trade
| 62.0 | Rural Development
| 71.1 | Food Characterization/Process/Product Research
| 71.2 | Non-Food Characterization/Process/Product Research
January 15 | 32.0 | Food Safety
| 32.1 | Epidemiological Approaches for Food Safety
| 41.0 | Animal Reproduction
| 44.0 | Animal Health and Well-Being
| 51.2 | Entomology and Nematology
| 51.7 | Biologically Based Pest Management
| 51.8 | Biology of Plant-Microbe Associations
| 73.0 | Improved Utilization of Wood and Wood Fiber
February 15 | 42.0 | Animal Growth and Nutrient Utilization
| 43.0 | Animal Genome and Genetic Mechanisms
| 54.3 | Plant Biochemistry

Done at Washington, D.C., this 31st day of October 2000.
Colien Hefferan,
Administrator, Cooperative State Research, Education, and Extension Service.

[FR Doc. 00-28510 Filed 11-3-00; 8:45 am]

BILLING CODE 3410-22-P